DEPARTMENT OF THE INTERIOR

Fish and Wildlife Service

[FWS-R9-WSR-2012-N196; FVWF941009000007B-XXX-FF09W11000; FVWF51100900000-XXX-FF09W11000]

Proposed Information Collection; Application and Performance Reporting for Wildlife and Sport Fish Restoration Grants and Cooperative Agreements

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them October 9, 2012.

ADDRESSES: Send your comments on the IC to the Service Information Collection Clearance Officer, U.S. Fish and Wildlife Service, MS 2042-PDM, 4401 North Fairfax Drive, Arlington, VA 22203 (mail); or INFOCOL@fws.gov (email). Please include “1018-WSFR Application and Performance Reporting” in the subject line of your comments.

FOR FURTHER INFORMATION CONTACT: To request additional information about this IC, contact Hope Grey at INFOCOL@fws.gov (email) or 703-358-2482 (telephone).

SUPPLEMENTARY INFORMATION:

I. Abstract

The Wildlife and Sport Fish Restoration Program (WSFR) administers the following financial assistance programs in whole or in part. We award most financial assistance as grants, but cooperative agreements are possible if the Federal Government will be substantially involved in carrying out the project. You can find a description of most programs in the Catalog of Federal Domestic Assistance (CFDA) or on our Web site at http://wsfrprograms.fws.gov.

CFDA | Program | Authority | Implementing regulations in the Code of Federal Regulations (CFR)
15.616 | Clean Vessel Act | 33 U.S.C. 1322; 16 U.S.C. 777c | 50 CFR 85
15.668 | Coastal Impact Assistance Program M | Outer Continental Shelf Lands Act, as amended; 31 U.S.C. 6301-6305 | None
15.614 | Coastal Wetlands Planning, Protection, and Restoration Act | 16 U.S.C. 3951 et seq. | 50 CFR 84
15.615 | Cooperative Endangered Species Conservation Fund | 16 U.S.C. 1531 et seq., with special reference to section 1535 | 50 CFR 81
15.626 | Firearm and Bow Hunter Education and Safety Program (Enhanced Hunter Education and Safety) M | 16 U.S.C. 669 et seq., with special reference to 669h-1 | 50 CFR 80
15.664 | Fish and Wildlife Coordination and Assistance Programs | 16 U.S.C. 661; 16 U.S.C. 742a; 16 U.S.C. 2901-2911 | None
15.667 | Highlands Conservation | Highlands Conservation Act (November 30, 2004), Public Law 108-421 | None
15.633 | Landowner Incentive Program | Annual Appropriations Acts for the Department of the Interior, Environment, and Related Agencies for fiscal years 2003 through 2007; 16 U.S.C. 460l-4 through 460l-11 | None
15.628 | Multistate Conservation Grants | 16 U.S.C. 669-669c, 669h-2; 16 U.S.C. 777-777c, 777m | None
15.653 | National Outreach and Communications | 23 U.S.C. 101; 16 U.S.C. 777g(d) | None
15.650 | Research Grants (Generic) | 16 U.S.C. 661; 16 U.S.C. 742f(a)(4); 16 U.S.C. 460l-4 through 460l-11; 16 U.S.C. 753a, b; 16 U.S.C. 1535, 1537 | None
15.649 | Service Training and Technical Assistance (Generic Training) | 16 U.S.C. 661; 16 U.S.C. 742f(a)(4) | None
15.605 | Sport Fish Restoration, including subprograms M | 16 U.S.C. 777 et seq., except 777e-1 and g-1 | 50 CFR 80
15.622 | Sportfishing and Boating Safety Act (Boating Infrastructure Grants) | 16 U.S.C. 777c, g, and g-1 | 50 CFR 86
15.634 | State Wildlife Grants M | Annual Appropriations Acts for the Department of the Interior, Environment, and Related Agencies for fiscal years 2001 through 2012; 16 U.S.C. 460l-4 through 460l-11, fiscal years 2002 through 2007 | None
15.634 | State Wildlife Grants | Annual Appropriations Acts for the Department of the Interior, Environment, and Related Agencies for fiscal years 2001 through 2012; 16 U.S.C. 460l-4 through 460l-11, fiscal years 2002 through 2007 | None
15.638 archived | Tribal Landowner Incentive Program | Same as the Landowner Incentive Program at CFDA number 15.633 | None
15.639 | Tribal Wildlife Grants | Same as the State Wildlife Grants Program at CFDA number 15.634 | None
15.625 archived | Wildlife Conservation and Restoration Program M | 16 U.S.C. 669 et seq., with special reference to sections 669-669c | None
15.611 | Wildlife Restoration, including subprograms M | 16 U.S.C. 669 et seq. | 50 CFR 80
M—Either a totally mandatory program or has a mandatory subprogram.

Some grants are mandatory and receive funds according to a formula set by law or policy. Other grants are discretionary and we award them based on a competitive process. Mandatory grant recipients must give us specific, detailed project information during the application process so that we may ensure that projects are eligible for the mandatory funding, are substantial in character and design, and comply with all applicable Federal laws. All grantees must submit financial and performance reports that contain information necessary for us to track costs and accomplishments and according to schedules and rules in 43 CFR 12. The Office of Management and Budget has approved our collection of information for applications and performance reports for these programs and assigned OMB Control Nos. 1018-0109 and 1018-0147.

Currently, grantees send written performance reports to the Service. We extract information and enter data into the Federal Assistance Information Management System (FAIMS). However, FAIMS will be decommissioned on October 1, 2012, and we intend to replace it with a new electronic system for data collection (Wildlife Tracking and Reporting Actions for the Conservation of Species (Wildlife TRACS)) by January 1, 2013. Wildlife TRACS will allow us to take advantage of newer technology and give grantees direct access to enter data and accomplishments. We will train State, tribal, commonwealth, territory, and District of Columbia personnel to use the new system, and we will also lend technical and administrative support. Allowing applicants and grantees to enter information directly into Wildlife TRACS will provide more accurate reporting and allow us to process grant funds more efficiently. We will continue to enter information in Wildlife TRACS for some grantees or programs; e.g., those who do not have sufficient technology or grant programs with minimal participation.

We plan to collect additional information not covered by our current OMB approvals. In addition, our current approvals do not cover data entry in Wildlife TRACS by applicants and grantees. We will request that OMB assign a new control number to cover these actions.

For mandatory grant program applications and amendments, we plan to collect:

• Geospatial entry of project location.

• Project status (active, completed, etc.).

• Project leader contact information.

• Partner information.

• Goals, including output measures and desired future values.

• Plan information (for projects connected to plans).

For all WSFR grant program reports, we plan to collect:

• Geospatial entry of action location.

• Action status (active, completed, etc.).

• Information beyond summary of land costs and title vesting evidence (for land acquisition projects).

• Current year data point(s) on trend line graph if there are 3 or more years (for survey projects).

• Estimated costs, by action.

• Effectiveness measures (mandatory for State Wildlife Grants).

The table below shows the additional time that will be required to obtain and enter the information when we implement Wildlife TRACS. We expect that this time will decrease as grantees become familiar with the system. We also expect to reduce the burden currently approved under OMB Control Nos. 1018-0109 and 1018-0147 for reports. When grantees directly enter reporting information into Wildlife TRACS, they will not be required to submit written reports.

II. Data

OMB Control Number: 1018-XXXX.

Title: Application and Performance Reporting for Wildlife and Sport Fish Restoration Grants and Cooperative Agreements.

Service Form Number: None.

Type of Request: Request for a new OMB control number.

Description of Respondents: Primarily States; the Commonwealths of Puerto Rico and the Northern Mariana Islands; the District of Columbia; the territories of Guam, U.S. Virgin Islands, and American Samoa; and federally-recognized tribal governments. For certain grant programs, institutions of higher education and nongovernmental organizations may also apply.

Respondent's Obligation: Required to obtain or retain a benefit.

Frequency of Collection: We require applications annually for new grants or as needed for multi-year grants. We require amendments on occasion when key elements of a project change. We require quarterly and final performance reports in the National Outreach and Communication Program and annual and final performance reports in the other programs. We may require more frequent reports under the conditions stated at 43 CFR 12.52 and 43 CFR 12.914.

Activity | Number of respondents | Number of responses | Completion time per response (hours) | Total annual burden hours
Application (Mandatory program)—collect and enter information | 56 | 625 | 4 | 2,500
Amendment—collect and enter information | 150 | 1,500 | .5 | 750
Performance Reports—collect and enter additional information | 200 | 3,500 | 2 | 7,000
Totals | 406 | 5.625 |  | 10,250

III. Comment

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: August 3, 2012.
Tina A. Campbell,
Chief, Division of Policy and Directives Management, U.S. Fish and Wildlife Service.

[FR Doc. 2012-19680 Filed 8-9-12; 8:45 am]

BILLING CODE 4310-55-P